DEPARTMENT OF AGRICULTURE

Office of Inspector General

Privacy Act of 1974; System of Records

AGENCY: Office of Inspector General, USDA.

ACTION: Notice of a modified system of records.

SUMMARY: In accordance with the Privacy Act, the United States Department of Agriculture, Office of Inspector General (USDA OIG) publishes this records notice to modify an existing system of records, USDA/OIG-8, the Research Aggregated Data Analysis Repository (RADAR) System, in order to update certain system information, including the system owner, and to clarify the records contained in the system and the purpose of the system.

DATES: The modified system of records established in this notice is effective upon publication in the Federal Register.

ADDRESSES: You may submit comments, identified by docket number OIG-2017-XXXX by one of the following methods:

• Federal eRulemaking Portal: http://www.regulations.gov. Follow the instructions for submitting comments.

• Email: Comments@oig.usda.gov.

• Fax: (202) 690-1528.

• Mail: Christy A. Slamowitz, Counsel to the Inspector General, U.S. Department of Agriculture, 1400 Independence Avenue SW., STOP 2308, Washington, DC 20250-2308.

• Instructions: All submissions received must include the agency name and docket number for this rulemaking. All comments received will be posted without change to http://www.regulations.gov, including any personal information provided.

• Docket: For access to the docket or to read background documents or comments received go to http://www.regulations.gov.

FOR FURTHER INFORMATION CONTACT: Cherry W. Tolliver, Assistant Counsel to the Inspector General, USDA OIG, (202) 720-9110.

SUPPLEMENTARY INFORMATION: The Privacy Act of 1974 requires a notice to be published in the Federal Register when an agency revises a system of records, and that a report be filed with Congress when an agency makes a change to a system of records. 5 U.S.C. 552a(e)(4) and (r). USDA OIG updated and published its system of records notices in their entirety on August 13, 2015. 80 FR 48476. System of Records USDA/OIG-8 “Office of Audit's Research Aggregated Data Analysis Repository (RADAR) System,” originally established on March 5, 2009 (74 FR 9584), was included and updated in that consolidated notice. Since August 13, 2015, OIG has reorganized to establish a permanent Office of Data Sciences (ODS).

ODS will be conducting data mining and data analysis, predictive data analysis, statistical sampling, data modeling, computer matching, and data warehousing in support of OIG's audits, investigations, and other activities. ODS will be helping to fulfill OIG's mission of overseeing more than $100 billion managed by USDA agencies across numerous programs. Under the Inspector General Act of 1978, as amended, the USDA OIG is responsible for conducting, supervising, and coordinating audits and investigations related to programs and operations of the USDA. This system of records facilitates OIG's performance of this statutory duty by identifying leads and assessing vulnerabilities for OIG's Office of Audit or Office of Investigations.

RADAR, USDA/OIG-8, was established to house USDA data in order to detect fraud, waste, and abuse by utilizing software to match, merge, and analyze the data associated with USDA programs and activities, program participants, and other USDA information. Specifically, OIG is revising RADAR, USDA/OIG-8, in order to (1) reflect a new system manager, the newly created ODS (the prior owner was OIG's Office of Audit), and related system information regarding safeguards and storage; (2) clarify that the contents of USDA/OIG-8 will also include (a) OIG generated records and products that are the result of OIG's ODS data analysis work, and (b) information on USDA employees, as well as program participants; and (3) clarify the purpose of RADAR to include its use in support of OIG investigations and other activities, as well as OIG audits. The routine uses for RADAR are unchanged. The complete list of applicable USDA OIG routine uses can be found at 80 FR 48476 (Aug. 13, 2015).

A report on the modified system of records has been sent to Congress and the Office of Management and Budget in accordance with 5 U.S.C. 552a(r).

Dated: January 17, 2017.
Phyllis K. Fong,
Inspector General, Department of Agriculture.

Accordingly, we are republishing the notice for the modified RADAR system of records, USDA/OIG-8, in its entirety, as follows:

USDA/OIG-8

SYSTEM NAME AND NUMBER:

Office of Data Sciences (ODS) Research Aggregated Data Analysis Repository (RADAR) System, USDA/OIG-8.

SECURITY CLASSIFICATION:

None.

SYSTEM LOCATION:

U.S. Department of Agriculture, National Information Technology Center, 8930 Ward Parkway, Kansas City, Missouri 64114.

SYSTEM MANAGER:

Assistant Inspector General for Data Sciences, OIG, U.S. Department of Agriculture, 1400 Independence Avenue SW., Washington, DC 20250.

AUTHORITY FOR MAINTENANCE OF THE SYSTEM:

Inspector General Act of 1978, 5 U.S.C. app 3; 5 U.S.C. 301.

PURPOSE OF THE SYSTEM:

The records maintained in this system are used by the U.S. Department of Agriculture (USDA), Office of Inspector General (OIG) to fulfill its statutory mission under the Inspector General Act, as amended, to conduct, supervise, and coordinate audits and investigations relating to the programs and operations of USDA; and to promote economy, efficiency, and effectiveness in the administration of, and prevent and detect fraud and abuse in, the programs and operations of USDA. The results of these data analysis activities, including fraud leads and vulnerability assessments, may be used in the conduct of OIG audits, investigations, and other activities.

CATEGORIES OF INDIVIDUALS COVERED BY THE SYSTEM:

(1) Individuals who participate in programs funded, monitored, and administered by USDA and their parents, siblings, spouse, children, and members of their household;

(2) employees, principals or business associates of organizations, or firms who participate in programs funded, monitored, and administered by USDA participating entities

(3) Subjects of USDA OIG audits and investigations; and

(4) USDA temporary and permanent employees, and former employees of USDA.

CATEGORIES OF RECORDS IN THE SYSTEM:

RADAR will house USDA data from numerous USDA agency systems of records, including data associated with USDA programs and activities, USDA program participants (including recipients, borrowers, grantees, and contractors), USDA employees, and other USDA information. RADAR will also contain records OIG ODS generates that are the result of its data analysis and data analytics work.

RECORD SOURCE CATEGORIES:

Information contained in this system is obtained from systems of records maintained by USDA and other Government agencies; individuals; non-Government, commercial, public, and private agencies and organizations; media, including periodicals, newspapers, and broadcast transcripts; and publicly-available databases.

ROUTINE USES OF RECORDS MAINTAINED IN THE SYSTEM, INCLUDING CATEGORIES OF USERS AND PURPOSE OF SUCH USES:

Routine Uses 1 through 16, 19, 20, and 21 apply. 80 FR 48476 (Aug. 13, 2015).

POLICIES AND PRACTICES FOR STORAGE OF RECORDS:

The RADAR System, USDA/OIG-8, consists of computerized and paper records.

POLICIES AND PRACTICES FOR RETRIEVAL OF RECORDS:

The records are retrieved by names, addresses, Social Security Numbers, and tax identification numbers of USDA program participants or employees, or by case numbers. Records are retrieved by USDA OIG's Office of Data Sciences employees.

POLICIES AND PRACTICES FOR RETENTION AND DISPOSAL OF RECORDS:

The records contained in this system are currently unscheduled. A record retention schedule will be developed and submitted to NARA for approval. No records will be destroyed until a NARA approved record retention schedule is in place.

Any records contained in the system before the creation of the Office of Data Sciences, are retained and disposed of in compliance with OIG's record disposition authority approved by NARA for Inspector General Audit and Evaluation Case Files.

ADMINISTRATIVE, TECHNICAL, AND PHYSICAL SAFEGUARDS:

OIG has adopted appropriate administrative, technical, and physical controls in accordance with OIG's information security policies to protect the security, integrity, and availability of the information, and to ensure that records are not disclosed to or accessed by unauthorized individuals.

Computerized records are maintained in a secure, password protected computer system. The computer server is maintained in a secure, access-controlled area within an access-controlled building. Paper records are kept in limited access areas during duty hours and in locked offices during nonduty hours.

RECORD ACCESS PROCEDURES:

An individual may request access to a record in this system that pertains to him/her by submitting a written request to the Counsel to the Inspector General, Office of Inspector General, U.S. Department of Agriculture, 1400 Independence Avenue SW., Stop 2308, Washington, DC 20250-2308.

CONTESTING RECORD PROCEDURES:

An individual may contest information in this system that pertains to him/her by submitting a written request to the Counsel to the Inspector General, Office of Inspector General, U.S. Department of Agriculture, 1400 Independence Avenue SW., Stop 2308, Washington, DC 20250-2308. This system may contain records originated by USDA agencies and contained in USDA's other systems of records. Where appropriate, coordination will be effected with the appropriate USDA agency regarding individuals contesting records in the relevant system of records.

NOTIFICATION PROCEDURES:

Any individual may request information regarding this system of records, or information as to whether the system contains records pertaining to him/her, from the Counsel to the Inspector General, Office of Inspector General, U.S. Department of Agriculture, 1400 Independence Avenue SW., Stop 2308, Washington, DC 20250-2308.

EXEMPTIONS PROMULGATED FOR THE SYSTEM:

No exemptions are applicable to records created by OIG ODS in the RADAR System, USDA/OIG-8. For individual records originating within a USDA system of records, OIG will continue to apply any applicable Privacy Act exemptions to those individual records.

HISTORY:

USDA OIG updated and published its system of records notices in their entirety on August 13, 2015. 80 FR 48476. System of Records USDA/OIG-8, originally established on March 5, 2009 (74 FR 9584), was included and updated in that consolidated notice.

[FR Doc. 2017-01412 Filed 1-19-17; 8:45 am]

BILLING CODE 3410-23-P